FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 29, 2004.

A. Federal Reserve Bank of Minneapolis (Jacqueline G. Nicholas, Community Affairs Officer) 90 Hennepin Avenue, Minneapolis, Minnesota 55480-0291:

1. Todd L. Johnson, Nancy S. Johnson, Hillary K. Johnson, and Matthew S. Johnson, all of Duluth, Minnesota; to acquire voting shares of NATCOM Bancshares, Inc., Superior, Wisconsin, and thereby indirectly acquire voting shares of National Bank of Commerce, Superior, Wisconsin.

2. Federal Reserve Bank of Kansas City (Donna J. Ward, Assistant Vice President) 925 Grand Avenue, Kansas City, Missouri 64198-0001:

1. Walter David Scott, Amy Scott, Sandra Parker, all of Omaha, Nebraska, and Karen Dixon, Leawood, Kansas; to acquire voting shares of DB Holding Company, Inc., Omaha, Nebraska, and thereby indirectly acquire voting shares of Omaha State Bank, Omaha, Nebraska.

Board of Governors of the Federal Reserve System, November 8, 2004.
Robert deV. Frierson,
Deputy Secretary of the Board.

[FR Doc. 04-25269 Filed 11-12-04; 8:45 am]

BILLING CODE 6210-01-S